DEPARTMENT OF TRANSPORTATION

Federal Aviation Administration

14 CFR Part 39

[Docket No. FAA-2019-0596; Product Identifier 2019-NE-22-AD]

RIN 2120-AA64

Airworthiness Directives; Pratt & Whitney Turbofan Engines

AGENCY: Federal Aviation Administration (FAA), DOT.

ACTION: Notice of proposed rulemaking (NPRM).

SUMMARY: The FAA proposes to adopt a new airworthiness directive (AD) for all Pratt & Whitney (PW) PW1519G, PW1521G, PW1521GA, PW1524G, PW1525G, PW1521G-3, PW1524G-3, PW1525G-3, PW1919G, PW1921G, PW1922G, PW1923G, and PW1923G-A model turbofan engines. This proposed AD was prompted by reports of in-flight shutdowns due to oil leaking from the connection between the LP10 oil supply tube and the fuel oil cooler (FOC). This proposed AD would require initial and repetitive gap inspections of the LP10 oil supply tube and the FOC and, if a gap is found, replacement of these parts. This proposed AD further requires removal of these parts at the next engine shop visit. The FAA is proposing an AD to address the unsafe condition on these products.

DATES: The FAA must receive comments on this proposed AD by October 25, 2019.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Pratt & Whitney, 400 Main Street, East Hartford, CT, 06118; phone: 800-565-0140; fax: 860-565-5442; email: help24@pw.utc.com; internet: http://fleetcare.pw.utc.com. You may view this service information at the FAA, Engine and Propeller Standards Branch, 1200 District Avenue, Burlington, MA, 01803. For information on the availability of this material at the FAA, call 781-238-7759.

Examining the AD Docket

You may examine the AD docket on the internet at http://www.regulations.gov by searching for and locating Docket No. FAA-2019-0596; or in person at Docket Operations between 9 a.m. and 5 p.m., Monday through Friday, except Federal holidays. The AD docket contains this NPRM, the regulatory evaluation, any comments received, and other information. The street address for Docket Operations is listed above. Comments will be available in the AD docket shortly after receipt.

FOR FURTHER INFORMATION CONTACT: Kevin M. Clark, Aerospace Engineer, ECO Branch, FAA, 1200 District Avenue, Burlington, MA, 01803; phone: 781-238-7088; fax: 781-238-7199; email: kevin.m.clark@faa.gov.

SUPPLEMENTARY INFORMATION:

Comments Invited

The FAA invites you to send any written relevant data, views, or arguments about this proposal. Send your comments to an address listed under the ADDRESSES section. Include “Docket No. FAA-2010-0596; Product Identifier 2019-NE-22-AD” at the beginning of your comments. The FAA specifically invites comments on the overall regulatory, economic, environmental, and energy aspects of this NPRM. The FAA will consider all comments received by the closing date and may amend this NPRM because of those comments.

The FAA will post all comments we receive, without change, to http://www.regulations.gov, including any personal information you provide. The FAA will also post a report summarizing each substantive verbal contact we receive about this NPRM.

Discussion

The FAA received reports of two in-flight shutdowns due to oil leaking from the connection between the LP10 tube and the fuel oil cooler. This condition, if not addressed, could result in failure of the LP10 oil tube, engine fire and damage to the airplane.

Related Service Information Under 1 CFR Part 51

The FAA reviewed PW Service Bulletin (SB) PW SB PW1000-A-79-00-0004-00B-930A-D, dated March 20, 2019, and PW SB PW1000-A-79-00-0011-00A-930A-D, dated March 20, 2019. PW SB PW1000-A-79-00-0004-00B-930A-D describes procedures for modification or replacement of the FOC on PW1919G, PW1921G, PW1922G, PW1923G, and PW1923G-A model turbofan engines. PW SB PW1000-A-79-00-0011-00A-930A-D describes procedures for modification or replacement of the FOCs on PW1519G, PW1521G, PW1521GA, PW1521G-3, PW1524G, PW1524G-3, PW1525G, and PW1525G-3 model turbofan engines. This service information is reasonably available because the interested parties have access to it through their normal course of business or by the means identified in the ADDRESSES section.

Other Related Service Information

The FAA reviewed PW SB PW SB PW1000-A-79-00-0005-00B-930A-D, dated January 25, 2019; PW SB PW1000-A-79-00-0012-00A-930A-D, dated January 25, 2019; PW SB PW1000-A-79-00-0007-00B-930A-D, dated March 29, 2019, and PW SB PW1000G-A-79-00-0013-00A-930A-D, dated March 29, 2019. These service bulletins describe procedures for inspections of the FOC for gaps as well as replacement of the FOC and the LP10 oil supply tube to prevent oil leaks.

FAA's Determination

The FAA is proposing this AD because we evaluated all the relevant information and determined the unsafe condition described previously is likely to exist or develop in other products of the same type design.

Proposed AD Requirements

This proposed AD would require initial and repetitive gap inspections of the LP10 oil supply tube and the FOC and, if a gap is found, replacement of these parts. This proposed AD would further require removal and replacement of these parts at the next engine shop visit.

Costs of Compliance

The FAA estimates that this proposed AD affects 18 engines installed on airplanes of U.S. registry.

The FAA estimates the following costs to comply with this proposed AD:

Estimated Costs
Action | Labor cost | Parts cost | Cost per product | Cost on U.S. operators
Perform gap inspection | 2 work-hours × $85 per hour = $170 | $0 | $170 | $3,060
Replace FOC | 5 work-hours × $85 per hour = $425 | 69,000 | 69,425 | 1,249,650
Replace LP 10 line | 2.5 work-hours × $85 per hour = $212.50 | 1,125 | 1,337.50 | 24,075

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to engines, propellers, and associated appliances to the Manager, Engine and Propeller Standards Branch, Policy and Innovation Division.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Pratt & Whitney: Docket No. FAA-2019-0596; Product Identifier 2019-NE-22-AD.

(a) Comments Due Date

The FAA must receive comments by October 25, 2019.

(b) Affected ADs

None.

(c) Applicability

This AD applies to all Pratt & Whitney (PW) PW1519G, PW1521G, PW1521GA, PW1524G, PW1525G, PW1521G-3, PW1524G-3, PW1525G-3, PW1919G, PW1921G, PW1922G, PW1923G, and PW1923G-A model turbofan engines.

(d) Subject

Joint Aircraft System Component (JASC) Code 7261, Turbine Engine Oil System.

(e) Unsafe Condition

This AD was prompted by reports of two in-flight shutdowns due to oil leaking from the connection between the LP10 oil supply tube and the fuel oil cooler (FOC). The FAA is issuing this AD to prevent failure of the LP10 oil supply tube, engine fire and damage to the airplane. The unsafe condition, if not addressed, could result in engine fire and damage to the airplane.

(f) Compliance

Comply with this AD within the compliance times specified, unless already done.

(g) Required Actions

(1) Within 300 engine cycles from the effective date of this AD, perform an initial gap inspection with a 0.001 inch feeler gauge between the LP10 oil supply tube, part number (P/N) 5312624-01, and the FOC, P/N 5306769.

(i) If any gap is found, remove the LP10 oil supply tube and the FOC and replace with parts eligible for installation prior to further flight.

(ii) If no gap is found, repeat this inspection every 850 engine cycles since the previous inspection.

(2) At the next shop visit after the effective date of this AD, remove the LP10 oil supply tube, P/N 5312624-01, and the FOC, P/N 5306769, and replace with parts eligible for installation.

(h) Terminating Action

Removal of the affected LP10 oil supply tube and the FOC per the requirements of paragraphs (g)(1)(i) or (g)(2) of this AD constitutes terminating action for the inspections required by paragraph (g)(1) of this AD.

(i) Definition

(1) For the purpose of this AD, an “engine shop visit” is the induction of an engine into the shop for maintenance involving the separation of pairs of major mating engine case flanges, except separation of engine flanges solely for the purposes of transportation of the engine without subsequent maintenance does not constitute an engine shop visit.

(2) For the purpose of this AD, an LP10 tube eligible for installation is any LP10 tube with a P/N other than P/N 5312624-01.

(3) For the purpose of this AD, a FOC eligible for installation is one with a P/N other than P/N 5306769 or an FOC modified per PW SB PW1000G-A-79-00-0004-00B-930A-D or PW SB PW1000G-A-79-00-0011-00A-930A-D, both dated March 20, 2019.

(j) Alternative Methods of Compliance (AMOCs)

(1) The Manager, ECO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (k)(1) of this AD. You may email your request to: ANE-AD-AMOC@faa.gov.

(2) Before using any approved AMOC, notify your appropriate principal inspector, or lacking a principal inspector, the manager of the local flight standards district office/certificate holding district office.

(k) Related Information

(1) For more information about this AD, contact Kevin M. Clark, Aerospace Engineer, ECO Branch, FAA, 1200 District Avenue, Burlington, MA 01803; phone: 781-238-7088; fax: 781-238-7199; email: kevin.m.clark@faa.gov.

(2) For service information identified in this AD, contact Pratt & Whitney, 400 Main Street, East Hartford, CT 06118; phone: 800-565-0140; fax: 860-565-5442; email: help24@pw.utc.com; internet: http://fleetcare.pw.utc.com. You may view this service information at the FAA, Engine and Propeller Standards Branch, 1200 District Avenue, Burlington, MA 01803. For information on the availability of this material at the FAA, call 781-238-7759.

Issued in Burlington, Massachusetts, on September 4, 2019.
Karen M. Grant,
Acting Manager, Engine & Propeller Standards Branch, Aircraft Certification Service.

[FR Doc. 2019-19410 Filed 9-9-19; 8:45 am]

BILLING CODE 4910-13-P